DEPARTMENT OF DEFENSE

Office of the Secretary

[Transmittal Nos. 13-14]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-14 with attached transmittal, policy justification, and Sensitivity of Technology.

Dated: May 1, 2013.
Aaron Siegel,
Alternate OSD Federal Register Liaison Officer, Department of Defense.

BILLING CODE 5001-06-P

Transmittal No. 13-14

Notice of Proposed Issuance of Letter of Offer Pursuant to Section 36(b)(1) of the Arms Export Control Act, as amended

(i) Prospective Purchaser: Kuwait

(ii) Total Estimated Value:

* As defined in Section 47(6) of the Arms Export Control Act.

Major Defense Equipment * | $301 million.
Other | $70 million.
TOTAL | $371 million.

(iii) Description and Quantity or Quantities of Articles or Services under Consideration for Purchase: 1 C-17 GLOBEMASTER III aircraft, 4 Turbofan F117-PW-100 Engines, 1 AN/AAR-47 Missile Approach Warning System, 1 AN/ALE-47 Countermeasure Dispenser Set (CMDS), secure radios, precision navigation equipment, spare and repair parts, support and test equipment, publications and technical documentation, tactics manuals, personnel training and training equipment, U.S. Government and contractor engineering, aircraft ferry support, aircraft fuel, and technical and logistics support services; and related elements of initial and follow-on logistical and program support.

(iv) Military Department: United States Air Force (USAF) (SAA A01).

(v) Prior Related Cases, if any: KU-D-SAA, Transmittal No. 10-51.

(vi) Sales Commission, Fee, etc., Paid, Offered, or Agreed to be Paid: None.

(vii) Sensitivity of Technology Contained in the Defense Article or Defense Services Proposed to be Sold: See Attached Annex.

(viii) Date Report Delivered to Congress: 16 April 2013.

POLICY JUSTIFICATION

Kuwait—C-17 GLOBEMASTER III

The Government of Kuwait has requested a possible sale of 1 C-17 GLOBEMASTER III aircraft, 4 Turbofan F117-PW-100 Engines, 1 AN/AAR-47 Missile Approach Warning System, 1 AN/ALE-47 Countermeasure Dispenser Set (CMDS), secure radios, precision navigation equipment, spare and repair parts, support and test equipment, publications and technical documentation, tactics manuals, personnel training and training equipment, U.S. Government and contractor engineering, aircraft ferry support, aircraft fuel, and technical and logistics support services; and related elements of initial and follow-on logistical and program support. The estimated cost is $371 million.

Kuwait continues to be a key ally and strong supporter of U.S. foreign policy and national security goals in the Persian Gulf region. The proposed sale will enhance the United States foreign policy and national security objectives by increasing interoperability among the Kuwait Air Force (KAF), the United States Air Force, Gulf Cooperation Council countries, and other coalition forces. The relationships built upon current flying operations will enhance the U.S. Air Force's influence and access in Kuwait.

The provision of a second C-17 provides KAF a more robust regional airlift and long-range strategic airlift capability. The additional C-17 aircraft will allow the KAF to better participate in humanitarian support operations.

The proposed sale of this equipment and support will not alter the basic military balance in the region.

The prime contractor will be The Boeing Company of Chicago, Illinois. There are no known offset agreements proposed in connection with this potential sale.

Implementation of this proposed sale will require multiple U.S. Government or contractor representatives to travel to Kuwait for a period of (5) five years to establish and maintain operational capability.

There will be no adverse impact on U.S. defense readiness as a result of this proposed sale.

Transmittal No. 13-14

Notice of Proposed Issuance of Letter of Offer Pursuant to Section 36(b)(1) of the Arms Export Control Act

Annex

Item No. vii

(vii) Sensitivity of Technology:

1. The Boeing C-17 GLOBEMASTER III military airlift aircraft is the newest, most flexible cargo aircraft to enter the U.S. Air Force fleet. The C-17 is capable of rapid, strategic delivery of up to 170,900 pounds of personnel and equipment to main operating bases or to forward operating bases. The aircraft is also capable of short field landings with a full cargo load. Finally, the aircraft can perform tactical airlift and airdrop missions and can also transport litters and ambulatory patients during aeromedical evacuations when required. A fully integrated electronic cockpit and advanced cargo systems allow a crew of three: the pilot, copilot and loadmaster, to operate the aircraft on any type of mission.

2. The AN/ALE-47 Counter-Measures Dispensing System (CMDS) is an integrated, threat-adaptive, software-programmable dispensing system capable of dispensing chaff, flares, and active radio frequency expendables. The threats countered by the CMDS include radar-directed anti-aircraft artillery (AAA), radar command-guided missiles, radar homing guided missiles, and infrared (IR) guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. The hardware, technical data, and documentation to be provided are Unclassified.

3. The AN/AAR-47 missile warning system is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (CI). The set of OSC units, which normally consist of four, is mounted on the aircraft exterior to provide omni-directional protection. The OSC detects the rocket plume of missiles and sends appropriate signals to the CP for processing. The CP analyzes the data from each OSC and automatically deploys the appropriate countermeasures. The CP also contains comprehensive BIT circuitry. The CI displays the incoming direction of the threat, so the pilot can take appropriate action.

4. If a technologically advanced adversary were to obtain knowledge of the specific hardware or software in this proposed sale, the information could be used to develop countermeasures that might reduce system effectiveness or be used in the development of a system with similar or advanced capabilities.

[FR Doc. 2013-10632 Filed 5-3-13; 8:45 am]

BILLING CODE 5001-06-C